Proclamation 10594 of May 31, 2023

National Ocean Month, 2023

By the President of the United States of America

A Proclamation

The ocean makes life on Earth possible—feeding us, sustaining livelihoods, and connecting economies across the globe. It bonds us as a source of recreation and rejuvenation for our spirits and links us to our heritage through Indigenous communities who have stewarded our marine habitats since time immemorial. Through its rich ecosystems of diverse plants, animals, and other species, it is also central to our fight against the climate crisis and to creating a cleaner, safer, and healthier future. During National Ocean Month, we recommit to protecting and conserving our precious ocean and to harnessing its power to shape a more sustainable planet.

My Administration is acting with urgency and a seriousness of purpose. Around the globe, the climate crisis today is drastically impacting marine life, coastal communities, and the ocean economy. The past eight years have been the warmest on record—and more than 90 percent of excess heat has been absorbed by the ocean. Rising temperatures force marine life to move away from their usual habitats, straining communities and working families who rely on fisheries for a living and for sustenance. Increasing acidity in our seas, along with nutrient and plastic pollution, endangers species and threatens food supplies. Higher sea levels make storm surges even more dangerous for coastal communities.

But we are not powerless in the face of these challenges—and the ocean can be an effective tool to confront them. That is why my Administration has joined together with State, Tribal, territorial, and local partners to implement the first-ever United States Ocean Climate Action Plan. With billions of dollars from our Bipartisan Infrastructure Law and our Inflation Reduction Act—the most significant climate investment in American history—we are advancing new offshore wind projects with an ambitious goal of deploying 30 gigawatts by 2030, enough to power 10 million homes while also protecting biodiversity. We are modernizing America's infrastructure and electrifying equipment at our ports to decrease the carbon footprint of cargo ships and build cleaner supply chains. And as part of our strategy to place environmental justice at the center of our ocean climate action, we are supporting communities that have been smothered by a legacy of pollution.

At the same time, we are protecting ecosystems and supporting the communities who rely on them. Together with our international partners, we are cracking down on illegal, unreported, and unregulated fishing. And we are working to strengthen sustainable fisheries, ensuring hardworking Americans can continue to provide for their families and feed our Nation.

As part of my America the Beautiful Initiative—which set a goal of conserving 30 percent of America's lands and waters by 2030—we are also taking steps toward designating new national marine sanctuaries. Toward that aim, I issued a Presidential Memorandum to consider designating more than 700,000 square miles around the Pacific Remote Islands as a new national marine sanctuary. If completed, this area would be among the largest marine protected areas on the planet. And it would honor the traditional practices and ancestral pathways of Pacific Island voyagers. With input from Tribal partners, my Administration also began the designation process for multiple new national marine sanctuaries, including the Hudson Canyon in the Atlantic Ocean and the Chumash Heritage National Marine Sanctuary off the coast of Southern California.

These actions make us safer. Healthy ecosystems like mangroves, seagrasses, and salt marshes take carbon out of the atmosphere while creating natural buffers that help absorb the force of hurricanes, typhoons, and tropical storms before they reach our communities. That is why my Administration is investing more than $500 million to help fortify these and other, nature-based climate solutions and create good-paying jobs for Americans in the process.

It is hard to imagine just how much of the ocean we have yet to discover and what possibilities for the future of human and planetary health, as well as for our economy, lie beneath its surface. This National Ocean Month, let us honor its beauty and bounty with action and commit to protecting and conserving it for generations to come.

NOW, THEREFORE, I, JOSEPH R. BIDEN JR., President of the United States of America, by virtue of the authority vested in me by the Constitution and the laws of the United States, do hereby proclaim June 2023 as National Ocean Month. I call upon Americans to take action to protect, conserve, and restore our ocean and coasts.

IN WITNESS WHEREOF, I have hereunto set my hand this thirty-first day of May, in the year of our Lord two thousand twenty-three, and of the Independence of the United States of America the two hundred and forty-seventh.

[FR Doc. 2023-12062

Filed 6-2-23; 8:45 am]

Billing code 3395-F3-P